DEPARTMENT OF TRANSPORTATION

Federal Aviation Administration

Organization Designation Authorizations for Transport Airplanes Expert Review Panel Membership

AGENCY: Federal Aviation Administration (FAA), Department of Transportation.

ACTION: Solicitation of nominations for appointment to the Organization Designation Authorizations (ODA) for Transport Airplanes Expert Review Panel (“Review Panel”).

SUMMARY: The FAA is publishing this notice to solicit nominations for membership on the ODA for Transport Airplanes Expert Review Panel (“Review Panel”).

DATES: Nominations must be received no later than 5 p.m. Eastern Time on October 11, 2022. Nominations received after the due date may be retained for evaluation of any remaining vacancies after all other nominations received by the due date have been evaluated and considered.

ADDRESSES: Nominations must be submitted electronically (by email) to Johann Hadian at Johann.Hadian@faa.gov. The subject line should state “ODA Review Panel Nomination.” The body of the email must contain content or attachments that address all requirements as specified in the below “Materials to Submit” section. Incomplete/partial submittals as well as those that exceed the specified document length may not be considered for evaluation.

FOR FURTHER INFORMATION CONTACT: Kevin Dickert, Federal Aviation Administration, 800 Independence Avenue SW, Washington, DC 20591, telephone (781) 238-7150; email Kevin.Dickert@faa.gov.

Background

The Review Panel is established pursuant to Section 103, “Expert Review of Organization Designation Authorizations for Transport Airplanes,” of the Aircraft Certification, Safety, and Accountability Act, Public Law 116-260, Div. V, § 103 (the Act). The objectives of the Review Panel are to review and make recommendations for each holder of an ODA for the design and production of transport airplanes (transport airplanes as defined in section 137(6) of the Act), on the following matters:

a. The extent to which the holder's safety management processes promote or foster a safety culture consistent with the principles of the International Civil Aviation Organization Safety Management Manual, Fourth edition (ICAO Doc. No. 9859) or any similar successor document.

b. The effectiveness of measures instituted by the holder to instill among employees and contractors of such holder that support organization designation authorization functions, a commitment to safety above all other priorities.

c. The holder's capability, based upon the organizational structures, requirements applicable to officers and employees of such holder, and safety culture, of making reasonable and appropriate decisions regarding functions delegated to the holder pursuant to the organization designation authorization.

d. Any other matter determined by the Administrator for which inclusion in the review would be consistent with the public interest in aviation safety.

Description of Duties

a. Carry out the review of ODA holders for the design and production of transport airplanes as identified in the preceding panel objectives.

b. Make recommendations to the Administrator regarding suggested actions to address any deficiencies found after review of the matters listed in the preceding panel objectives.

c. Not later than 270 days after the date of the first meeting of the Review Panel, create a report documenting the findings and resulting recommendations, in accordance with the criteria of section 103(a)(5) of the Act. The report shall be submitted to the Administrator and the Congressional committees of jurisdiction.

Membership

The Administrator shall establish a Review Panel of members from the aviation community. The Review Panel shall consist of 24 members as outlined in section 103(a)(3) of the Act. Review Panel member organizations must include representatives of the following interest in the number prescribed by section 103(a)(3) of the Act: NASA, FAA Aircraft Certification Service, FAA Flight Standards Service, labor unions (airline pilots, transport airplane assembly, FAA engineers, FAA safety inspectors, transport airplane design), independent engineering experts, air carriers, ODA holders, and legal experts.

All members serve at the pleasure of the FAA Administrator and will be appointed for a period of one year. Member employing organizations bears all costs related to its members' participation.

Members must have the ability to support all Review Panel meetings (virtual and face-to-p face once travel restrictions lifted).

Each individual member of the Review Panel must execute a Disclosure of Financial Interests agreement with the Administrator as outlined in section 103(a)(6)(B) prior to the first meeting of the Review Panel.

Non-Federal government members of the review panel must execute a Non-Disclosure Agreement with the Administrator, as outlined in section 103(a)(6)(C)(ii), prior to the first meeting of the Review Panel.

Qualifications

Candidates must be in good public standing and meet any specific member qualification requirements specified in the section 103(a)(3) for the membership position being sought.

Candidates should highlight any level of familiarization/experience with the following:

a. Safety management processes and systems;

b. Application of International Civil Aviation Organization Safety Manual, Fourth Edition; and

c. Assessing organizational structure, culture and dynamics.

Nomination Process

The Administrator is seeking individual nominations for membership to the Review Panel. Any interested person may nominate one or more qualified individuals for membership on the Review Panel. Self-nominations are also accepted. Nominations must include, in full, the following materials to be considered for Review Panel membership. Failure to submit the required information may disqualify a candidate from the review process.

Nominations must include the following materials to be considered for membership.

a. A short biography of the nominee, including professional and academic credentials.

b. A résumé or curriculum vitae, which must include relevant job experience, qualifications, as well as contact information (email, telephone, and mailing address).

c. A one-page statement describing how the candidate will benefit the Review Panel, considering current membership and the candidate's unique perspective that will advance the conversation. This statement must also identify a primary and secondary interest to which the candidate's expertise best aligns.

d. Candidates should identify, within the above materials or separately, their previous experience on Federal Advisory Committees and/or Aviation Rulemaking Committees (if any), their level of knowledge in their above stakeholder groups (if applicable), and the size of their constituency they represent or are able to reach.

e. Up to three letters of recommendation may be submitted, but are not required. Each letter may be no longer than one page.

Evaluations will be based on the materials submitted. An email confirmation from the FAA will be sent upon receipt of all complete nominations that meet the criteria. The FAA will notify those appointed by the Administrator to serve on the panel via email.

Issued in Washington, DC, on September 6, 2022.
Jodi L. Baker,
Deputy Associate Administrator Aviation Safety.

[FR Doc. 2022-19541 Filed 9-7-22; 4:15 pm]

BILLING CODE 4910-13-P